DEPARTMENT OF TRANSPORTATION

Federal Railroad Administration

[Docket No. FRA-2024-0016]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On March 10, 2025, FRA published a notice providing a 60-day period for public comment on the ICR. FRA received no comments in response to the 60-day notice.

DATES: Interested persons are invited to submit comments on or before June 16, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On March 10, 2025, FRA published a 60-day notice in the Federal Register soliciting public comment on the ICR for which it is now seeking OMB approval. See 90 FR 11644. FRA has received no comment related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. The 30-day notice informs the regulated community of their opportunity to file relevant comments and affords the agency adequate time to consider public comments before it renders a decision. 60 FR 44983, Aug. 29, 1995. Therefore, respondents should submit their respective comments to OMB within 30 days of publication to best ensure having their full effect.

Please note this ICR is a reinstatement request, because the expected date to publish the 30-day notice in the Federal Register will occur after the prior ICR approval has expired.

Comments are invited on this ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Railroad Locomotive Safety Standards and Event Recorders.

OMB Control Number: 2130-0004.

Abstract: This notice includes revisions to a currently approved ICR for the Railroad Locomotive Safety Standards (LSS), and revisions to existing OMB Form FRA F 6180.49A, Locomotive Inspection and Repair Record. The LSS (49 CFR part 229) require locomotives and their appurtenances to be in proper condition and safe to operate in the service to which they are put and include specific inspection, repair, and maintenance requirements. Locomotive inspection, repair, and maintenance records are used to help ensure locomotives are safe to operate. Form FRA F 6180.49A is the main record used to collect required information from inspection, maintenance, and testing of each locomotive. The LSS also require collection of event recorder data. The data gathered from locomotive event recorders is used by the railroad industry to improve train handling and promote the safe and efficient operation of trains throughout the country. Locomotive event recorders also provide FRA and State railroad safety inspectors with verified data elements for use in their oversight responsibilities that show how trains are operated from lead locomotives.

Type of Request: Revision of a currently approved collection.

Affected Public: Railroads.

Form(s): FRA F 6180.49A.

Respondent Universe: 745 railroads.

Frequency of Submission: On occasion.

Total Estimated Annual Responses: 8,913,163.¹

¹ FRA has corrected the number of responses published in the Abstract of the 60-day notice. The published 60-day notice (90 FR 11644) currently reflects the Total Estimated Annual Responses as 8,913,1634. In this 30-day notice, FRA has made the adjustment in the Abstract to show the correct Total Estimated Annal Responses as 8,913,163.

Total Estimated Annual Burden: 245,200 hours.

Total Estimated Annual Burden Hour Dollar Cost Equivalent: $21,109,300.

FRA informs all interested parties that it may not conduct or sponsor, and a respondent is not required to respond to, a collection of information that does not display a currently valid OMB control number.

Authority: 44 U.S.C. 3501-3520.

Christopher S. Van Nostrand,
Deputy Chief Counsel.

[FR Doc. 2025-08794 Filed 5-15-25; 8:45 am]

BILLING CODE 4910-06-P